SECURITIES AND EXCHANGE COMMISSION

[Release No. 34-90861; File No. SR-ICEEU-2020-018]

Self-Regulatory Organizations; ICE Clear Europe Limited; Notice of Filing of Partial Amendment No. 1 To Proposed Rule Change Relating to Amendments to the ICE Clear Europe CDS Procedures and CDS Default Management Policy

January 6, 2021.

On December 14, 2020, ICE Clear Europe Limited (“ICE Clear Europe” or the “Clearing House”) filed with the Securities and Exchange Commission (“Commission”), pursuant to Section 19(b)(1) of the Securities Exchange Act of 1934 (“Act”),¹ and Rule 19b-4 thereunder,² a proposed rule change to modify its CDS Procedures and CDS Default Management Policy related to its CDS Default Committee. The proposed rule change was published for comment in the Federal Register on January 4, 2021.³ On December 31, 2020, ICE Clear Europe filed Partial Amendment No. 1 to the proposed rule change. Pursuant to Section 19(b)(1) of the Act ⁴ and Rule 19b-4 thereunder,⁵ the Commission is publishing notice of this Partial Amendment No. 1 to the proposed rule change as described in Item I below, which has been prepared primarily by ICE Clear Europe. The Commission is publishing this notice to solicit comment on Partial Amendment No. 1 from interested persons.

¹ 15 U.S.C. 78s(b)(1).

² 17 CFR 240.19b-4.

³ Self-Regulatory Organizations; ICE Clear Europe Limited; Notice of Filing of Proposed Rule Change Relating to Amendments to the ICE Clear Europe CDS Procedures and CDS Default Management Policy, Securities Exchange Act Release No. 90806 (December 28, 2020), 86 FR 169 (January 4, 2021) (SR-ICEEU-2020-018).

⁴ 15 U.S.C. 78s(b)(1)

⁵ 17 CFR 240.19b-4.

I. Clearing Agency's Statement of the Terms of Partial Amendment No. 1 to the Proposed Rule Change

ICE Clear Europe submits this partial amendment (“Partial Amendment No. 1”) to its previously submitted proposed rule changes (the “Initial Filing”) to modify its CDS Procedures (the “CDS Procedures” or the “Procedures”) ⁶ to update the requirements for a Clearing Member to be approved to be a CDS Committee-Eligible Clearing Member for purposes of the CDS Default Committee, as well as certain other updates and clarifications, and to modify its CDS Default Management Policy (the “CDS Default Management Policy” or “Policy”) to make corresponding updates to the requirements for a Clearing Member to be eligible to serve on the CDS Default Committee, as well as to provide more detail with respect to review and testing of its default procedures, remove appendices and make certain other updates and clarifications to be consistent with other ICE Clear Europe policies. Partial Amendment No. 1 is intended to amend Item 3(a) of the Initial Filing to add an explanation as to the circumstances pursuant to which ICE Clear Europe may permit a CDS Committee-Eligible Clearing Member to postpone participation in the CDS Default Committee for a Relevant CDS Default Committee Period for which it is otherwise due to take part. The text of the proposed rule changes in the Initial Filing is unchanged.

⁶ Capitalized terms used but not defined herein have the meanings specified in the ICE Clear Europe Clearing Rules and the CDS Procedures.

As described in the Initial Filing, amendments to paragraph 5.3 of the CDS Procedures would add that if a CDS Committee-Eligible Clearing Member considers that it is unable to take part in the CDS Default Committee for the Relevant CDS Default Committee Period for which it is due to take part, it may request to postpone its participation for that period. ICE Clear Europe could, at its discretion, approve such request. In this Partial Amendment No. 1, ICE Clear Europe is providing the explanation in the paragraph below to supplement the description of the amendment to paragraph 5.3 of the CDS Procedures that was provided in the Initial Filing.

In general, paragraph 5.3 is intended to give ICE Clear Europe a degree of flexibility in responding to a request for postponement from a Clearing Member, in light of the difficulty in outlining in advance all potential scenarios where it may be appropriate. In ICE Clear Europe's view, based on its experience and discussions with Clearing Members about service on the committee, an acceptable excuse would most likely relate to temporary resource constraints at the Clearing Member. For example, if the committee member were already serving on the default committee of another clearing house during the relevant period or if a committee member otherwise had limited staffing resources to commit to the committee during that period, this may be considered satisfactory. ICE Clear Europe would expect to discuss the particular situation with the Clearing Member in question and would respond to any request for postponement to let the Clearing Member know whether its rationale was satisfactory. ICE Clear Europe believes this type of flexible approach is ultimately more favorable to both the Clearing House and Clearing Members than having a more rigid rule.

The purpose of the rule change as set out in Item 3(a) of the Initial Filing is otherwise unchanged.

II. Date of Effectiveness of the Proposed Rule Change and Timing for Commission Action

Within 45 days of the date of publication of this notice in the Federal Register or within such longer period up to 90 days (i) as the Commission may designate if it finds such longer period to be appropriate and publishes its reasons for so finding or (ii) as to which the self-regulatory organization consents, the Commission will:

(A) By order approve or disapprove the proposed rule change or

(B) institute proceedings to determine whether the proposed rule change should be disapproved.

III. Solicitation of Comments

Interested persons are invited to submit written data, views, and arguments concerning the foregoing, including whether the proposed rule change is consistent with the Act. Comments may be submitted by any of the following methods:

Electronic Comments

• Use the Commission's internet comment form (http://www.sec.gov/rules/sro.shtml) or

• Send an email to rule-comments@sec.gov. Please include File Number SR-ICEEU-2020-018 on the subject line.

Paper Comments

• Send paper comments in triplicate to Secretary, Securities and Exchange Commission, 100 F Street NE, Washington, DC 20549-1090.

All submissions should refer to File Number SR-ICEEU-2020-018. This file number should be included on the subject line if email is used. To help the Commission process and review your comments more efficiently, please use only one method. The Commission will post all comments on the Commission's internet website (http://www.sec.gov/rules/sro.shtml). Copies of the submission, all subsequent amendments, all written statements with respect to the proposed rule change that are filed with the Commission, and all written communications relating to the proposed rule change between the Commission and any person, other than those that may be withheld from the public in accordance with the provisions of 5 U.S.C. 552, will be available for website viewing and printing in the Commission's Public Reference Room, 100 F Street NE, Washington, DC 20549, on official business days between the hours of 10:00 a.m. and 3:00 p.m. Copies of such filings will also be available for inspection and copying at the principal office of ICE Clear Europe and on ICE Clear Europe's website https://www.theice.com/clear-europe/regulation.

All comments received will be posted without change. Persons submitting comments are cautioned that we do not redact or edit personal identifying information from comment submissions. You should submit only information that you wish to make available publicly. All submissions should refer to File Number SR-ICEEU-2020-018 and should be submitted on or before February 2, 2021.

⁷ 17 CFR 200.30-3(a)(12).

For the Commission, by the Division of Trading and Markets, pursuant to delegated authority.⁷
J. Matthew DeLesDernier,
Assistant Secretary.

[FR Doc. 2021-00350 Filed 1-11-21; 8:45 am]

BILLING CODE 8011-01-P